DEPARTMENT OF THE INTERIOR

Fish and Wildlife Service

[FWS—HQ—MB—2013—N144; F09M29000—134—FXMB12320900000]

Proposed Information Collection; Depredation Order for Blackbirds, Grackles, Cowbirds, Magpies, and Crows

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2013. We may not conduct or sponsor and a person is not required to respond to a collection of information unless it displays a currently valid OMB control number.

DATES: To ensure that we are able to consider your comments on this IC, we must receive them by August 30, 2013.

ADDRESSES: Send your comments on the IC to the Service Information Collection Clearance Officer, U.S. Fish and Wildlife Service, MS 2042—PDM, 4401 North Fairfax Drive, Arlington, VA 22203 (mail); or hope_grey@fws.gov (email). Please include “1018-0146” in the subject line of your comments.

FOR FURTHER INFORMATION CONTACT: To request additional information about this IC, contact Hope Grey at hope_grey@fws.gov (email) or 703-358-2482 (telephone).

SUPPLEMENTARY INFORMATION:

I. Abstract

The Migratory Bird Treaty Act (MBTA; 16 U.S.C. 703 et seq.) implements four treaties concerning migratory birds that the United States has signed with Canada, Mexico, Japan, and Russia. Under the treaties, we must preserve most species of birds in the United States, and activities involving migratory birds are prohibited except as authorized by regulation.

This information collection is associated with our regulations that implement the MBTA. In the Code of Federal Regulations (CFR), 50 CFR 21.43 is a depredation order for blackbirds, cowbirds, grackles, crows, and magpies that authorizes take of these birds “when found committing or about to commit depredations upon ornamental or shade trees, agricultural crops, livestock, or wildlife, or when concentrated in such numbers and manner as to constitute a health hazard or other nuisance.”

All persons or entities acting under this depredation order must provide an annual report containing the following information for each species:

• Number of birds taken.

• Months and years in which the birds were taken.

• State(s) and county(ies) in which the birds were taken.

• General purpose for which the birds were taken (such as for protection of agriculture, human health and safety, property, or natural resources).

We collect this information so that we will be able to determine how many birds of each species are taken each year and whether the control actions are likely to affect the populations of those species.

II. Data

OMB Control Number: 1018-0146.

Title: Depredation Order for Blackbirds, Grackles, Cowbirds, Magpies, and Crows, 50 CFR 21.43.

Service Form Number: None.

Type of Request: Extension of a currently approved collection.

Description of Respondents: State and Federal wildlife damage management personnel; farmers; and individuals.

Respondent's Obligation: Required to obtain or retain a benefit.

Frequency of Collection: Annually.

Estimated Number of Respondents: 250.

Estimated Total Annual Responses: 250.

Estimated Completion Time per Response: 2 hours.

Estimated Total Annual Burden Hours: 500.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: June 25, 2013.
Tina A. Campbell,
Chief, Division of Policy and Directives Management, U.S. Fish and Wildlife Service.

[FR Doc. 2013-15619 Filed 6-28-13; 8:45 am]

BILLING CODE 4310-55-P